DEPARTMENT OF TRANSPORTATION

Federal Aviation Administration

Agency Information Collection Activities: Requests for Comments; Clearance of Renewed Approval of Information Collection: Aviation Insurance

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on December 4, 2014. The requested information is included in air carriers applications for insurance when insurance is not available from private sources.

DATES: Written comments should be submitted by May 11, 2015.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: 2120-0514.

Title: Aviation Insurance.

Form Numbers: There are no FAA forms associated with this collection.

Type of Review: Extension without change of an information collection.

Background: The Federal Register Notice with a 60-day comment period soliciting comments on the following collection of information was published on December 4, 2014 (79 FR 72055). The information submitted by applicants for insurance under Chapter 443 of Title 49 U.S.C. is used by the FAA to identify the eligibility of parties to be insured, the amount of coverage required, and insurance premiums. Without collection of this information, the FAA would not be able to issue required insurance.

Respondents: Approximately 61 applicants.

Frequency: Information is collected on occasion.

Estimated Average Burden per Response: 4 hours.

Estimated Total Annual Burden: 616 hours.

Issued in Washington, DC on April 2, 2015.
Ronda Thompson,
FAA Information Collection Clearance Officer, IT Enterprises Business Services Division, ASP-110.

[FR Doc. 2015-08121 Filed 4-8-15; 8:45 am]

BILLING CODE 4910-13-P